DEPARTMENT OF HOMELAND SECURITY

Transportation Security Administration

Extension of Agency Information Collection Activity Under OMB Review: Baseline Assessment for Security Enhancement (BASE) Program

AGENCY: Transportation Security Administration, DHS.

ACTION: 30-Day notice.

SUMMARY: This notice announces that the Transportation Security Administration (TSA) has forwarded the Information Collection Request (ICR), Office of Management and Budget (OMB) control number 1652-0062, abstracted below to OMB for review and approval of an extension to the currently approved collection under the Paperwork Reduction Act (PRA). The ICR describes the nature of the information collection and its expected burden. TSA published a Federal Register notice, with a 60-day comment period soliciting comments, of the following collection of information on April 14, 2016, 81 FR 22093. The collection allows TSA to conduct transportation security-related assessments during site visits with surface transportation security and operating officials.

DATES: Send your comments by July 28, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Baseline Assessment for Security Enhancement (BASE) Program.

Type of Request: Extension of a currently approved collection.

OMB Control Number: 1652-0062.

Forms(s): Baseline Assessment for Security Enhancement (BASE) electronic checklist.

Affected Public: Highway transportation asset owners and operators, intercity passenger rail and public transportation agencies, including mass transit bus, rail transit, commuter rail, and other, less common types of service (cable cars, inclined planes, funiculars, and automated guide way systems).

Abstract: TSA's BASE program works with existing and new transportation owner/operators to identify their current security posture, to identify security gaps, and to implement countermeasures throughout the affected surface modes of transportation by asking established questions with major transportation asset owners and operators. Data and results collected through the BASE program will inform TSA's policy and program initiatives and allow TSA to provide focused resources and tools to enhance the overall security posture within the affected surface transportation community.

Number of Respondents: 90.

Estimated Annual Burden Hours: An estimated 558 hours annually (Mass Transit/Passenger Rail—468 hours; Highway—90 hours).

Dated: June 22, 2016.
Joanna Johnson,
TSA Paperwork Reduction Act Officer, Office of Information Technology.

[FR Doc. 2016-15181 Filed 6-27-16; 8:45 am]

BILLING CODE 9110-05-P